DEPARTMENT OF JUSTICE

[OMB Number 1122-0NEW]

Agency Information Collection Activities; Proposed eCollection eComments; Requested; New Collection; Optional Flexible Financial Assistance Survey

AGENCY: Office on Violence Against Women, Department of Justice.

ACTION: 30-Day notice.

SUMMARY: The Department of Justice (DOJ), Office on Violence Against Women, will be submitting the following information collection request to the Office of Management and Budget (OMB) for review and approval in accordance with the Paperwork Reduction Act of 1995.

DATES: Comments are encouraged and will be accepted for 30 days until December 26, 2025.

FOR FURTHER INFORMATION CONTACT: If you have comments especially on the estimated public burden or associated response time, suggestions, or need a copy of the proposed information collection instrument with instructions or additional information, please contact: Tiffany Watson, Office on Violence Against Women, at 202-307-6026 or Tiffany.Watson@usdoj.gov.

SUPPLEMENTARY INFORMATION: The proposed information collection was previously published in the Federal Register on September 17, 2025, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1122-XXXX. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: New Collection.

2. Title of the Form/Collection: Optional Flexible Financial Assistance Survey.

3. Agency form number, if any, and the applicable component of the Department of Justice sponsoring the collection: Form Number: 1122-XXXX. U.S. Department of Justice, Office on Violence Against Women.

4. Affected public who will be asked or required to respond, as well as a brief abstract: The affected public includes grantees under OVW's Financial Assistance Program and recipients of flexible financial assistance distributed by those grantees. The survey will ask limited questions about how and when survivors of domestic violence, sexual assault, dating violence and stalking received flexible financial assistance, as well as information about the impact of financial assistance in pursuing safety and security for themselves and their families. This data will inform future programming and provide information about the effectiveness of OVW-funded financial assistance for victims to Congress and other stakeholders. The survey is optional.

5. An estimate of the total number of respondents and the amount of time estimated for an average respondent to respond/reply: It is estimated that it will take approximately 2,600 respondents approximately 10 minutes to complete the optional survey.

6. An estimate of the total public burden (in hours) associated with the collection: The total annual hour burden to complete the data collection forms is 433 hours. OVW anticipates that 13 grantees will administer this survey to an annual average of 200 people who receive flexible financial assistance. Two hundred participants each at 13 sites totals 2,600 people completing the survey each year. If it takes 10 minutes to complete the survey, then that is 26,000 minutes annually, which is approximately 433 hours.

7. An estimate of the total annual cost burden associated with the collection, if applicable: The annualized cost to the Federal Government resulting from the OVW staff review of the survey is estimated to be $24,556.

8. Total Burden Hours:

Activity | Estimated number of respondents | Frequency | Total annual responses | Time per response (min.) | Total annual burden (hours)
Flexible Financial Assistance Survey | 2,600 | 1 time per recipient | 2,600 | 10 | 433
Unduplicated Totals | 2,600 |  | 2,600 |  | 433

If additional information is required contact: Darwin Arceo, Department Clearance Officer, United States Department of Justice, Justice Management Division, Policy and Planning Staff, Two Constitution Square, 145 N Street NE, 4W-218, Washington, DC.

Dated: November 24, 2025.
Darwin Arceo,
Department Clearance Officer for PRA, U.S. Department of Justice.

[FR Doc. 2025-21206 Filed 11-25-25; 8:45 am]

BILLING CODE 4410-FX-P